DEPARTMENT OF HEALTH AND HUMAN SERVICES

National Institutes of Health

National Center for Complementary and Alternative Medicine Announcement of Grantsmanship Workshop

ACTION: Notice.

SUMMARY: The National Center for Complementary and Alternative Medicine (NCCAM) invites the research community to apply to attend a grantsmanship workshop. This workshop will provide researchers, fellows, and graduate students with an in-depth understanding of the NIH grants and review processes, clarify Federal regulations and policies, and highlight areas of special interest and concern. Emphasis will be placed on complementary and alternative medicine (CAM) research. The workshop will include time to interact and discuss research ideas with NCCAM staff.

The Workshop will take place on June 3-5, 2008, in Rockville, Maryland. Those interested in CAM research are particularly encouraged to attend.

Background: The National Center for Complementary and Alternative Medicine (NCCAM) was established in 1999 with the mission of exploring complementary and alternative healing practices in the context of rigorous science, training CAM researchers, and disseminating authoritative information to the public and professionals.

NCCAM funds research grants that explore the science of CAM. For more information, see http://nccam.nih.gov/research/nccamfunds.htm.

Request for Applications: The research community is invited to submit an application to attend the grantsmanship workshop. For more information about what will be covered at the workshop, see http://nccam.nih.gov/news/2007/110707.htm. Applications will be accepted until February 29, 2008. Accepted participants will be notified via e-mail by March 31, 2008. The Dialogue will be held: June 3-5, 2008, Neuroscience Building, National Institutes of Health, Rockville, Maryland.

FOR FURTHER INFORMATION CONTACT: To request more information, visit the NCCAM Web site at http://nccam.nih.gov/news/2007/110707.htm, call 301-593-2800 (Sherika Harley) or e-mail at sharley@lclmllc.com.

Dated: January 16, 2008.
Richard Nahin,
Senior Advisor for Scientific Coordination and Outreach, National Center for Complementary and Alternative Medicine, National Institutes of Health.

[FR Doc. E8-1251 Filed 1-24-08; 8:45 am]

BILLING CODE 4140-01-P